DEPARTMENT OF LABOR

Mine Safety and Health Administration

[OMB Control No. 1219-0083]

Proposed Extension of Existing Information Collection; Daily Inspection of Surface Coal Mines; Certified Person; Reports of Inspection (Pertains to Surface Coal Mines)

AGENCY: Mine Safety and Health Administration, Labor.

ACTION: Request for public comments.

SUMMARY: The Department of Labor, as part of its continuing effort to reduce paperwork and respondent burden, conducts a pre-clearance consultation program to provide the general public and Federal agencies with an opportunity to comment on proposed and continuing collections of information in accordance with the Paperwork Reduction Act of 1995. This program helps to assure that requested data can be provided in the desired format, reporting burden (time and financial resources) is minimized, collection instruments are clearly understood, and the impact of collection requirements on respondents can be properly assessed. Currently, the Mine Safety and Health Administration is soliciting comments concerning the extension of the information collection for 30 CFR 77.1713. OMB last approved this information collection request (ICR) on February 1, 2010.

DATES: All comments must be postmarked or received by midnight Eastern Standard Time on December 11, 2012.

ADDRESSES: Comments concerning the information collection requirements of this notice must be clearly identified with “OMB 1219-0083” and sent to the Mine Safety and Health Administration (MSHA). Comments may be sent by any of the methods listed below.

• Federal E-Rulemaking Portal: http://www.regulations.gov. Follow the on-line instructions for submitting comments.

• Facsimile: 202-693-9441, include “OMB 1219-0083” in the subject line of the message.

• Regular Mail or Hand Delivery: MSHA, Office of Standards, Regulations, and Variances, 1100 Wilson Boulevard, Room 2350, Arlington, VA 22209-3939. For hand delivery, sign in at the receptionist's desk on the 21st floor.

FOR FURTHER INFORMATION CONTACT: Greg Moxness, Chief, Economic Analysis Division, Office of Standards, Regulations, and Variances, MSHA, at moxness.greg@dol.gov (email); 202-693-9440 (voice); or 202-693-9441 (facsimile).

SUPPLEMENTARY INFORMATION:

I. Background

The Secretary shall, in accordance with procedures set forth in Section 101(a) of the Federal Mine Safety and Health Act of 1977 (Mine Act), and Section 553 of Title 5, United States Code, develop, promulgate, and revise as may be appropriate, improved mandatory health or safety standards for the protection of life and prevention of injuries in coal or other mines. 30 U.S.C. 811(a). Additionally, section 103(h) of the Mine Act requires mine operators to establish and maintain “such records, make such reports, and provide such information, as the Secretary * * * may reasonably require from time to time to enable [her] to perform [her] functions under this Act.” 30 U.S.C. 813(h).

Section 77.1713, Title 30 of the Code of Federal Regulations (30 CFR 77.1713) requires coal mine operators to conduct examinations of each active working area of surface mines, active surface installations at these mines, facilities and preparation plants not associated with underground coal mines for hazardous conditions during each shift. A report of hazardous conditions detected must be entered into a record book along with a description of any corrective actions taken.

A number of potential hazards can exist at surface coal mines and facilities. Highwalls, mining equipment, travelways, and the handling of mining materials each present potentially hazardous conditions. Prior to the promulgation of 30 CFR 77.1713 in 1971, numerous miners had either lost their lives or received injuries of varying degrees of seriousness at areas affected by the subject standard. The majority of the injuries and fatalities resulted from hazardous conditions not detected and corrected. By conducting an on shift examination for hazardous conditions, mine operators better ensure a safe working environment for the miners and a reduction in accidents.

II. Desired Focus of Comments

The Mine Safety and Health Administration (MSHA) is soliciting comments concerning the proposed extension of the information collection related to Daily Inspection of Surface Coal Mines; Certified Person; Reports of Inspection (Pertains to Surface Coal Mines). MSHA is particularly interested in comments that:

• Evaluate whether the collection of information is necessary for the proper performance of the functions of the agency, including whether the information has practical utility;

• Evaluate the accuracy of the MSHA's estimate of the burden of the collection of information, including the validity of the methodology and assumptions used;

• Suggest methods to enhance the quality, utility, and clarity of the information to be collected; and

• Address the use of appropriate automated, electronic, mechanical, or other technological collection techniques or other forms of information technology (e.g., permitting electronic submissions of responses), to minimize the burden of the collection of information on those who are to respond.

The public may examine publicly available documents, including the public comment version of the supporting statement, at MSHA, Office of Standards, Regulations, and Variances, 1100 Wilson Boulevard, Room 2350, Arlington, VA 22209-3939. OMB clearance requests are available on MSHA's Web site at http://www.msha.gov under “Rules & Regs” on the right side of the screen by selecting Information Collections Requests, Paperwork Reduction Act Supporting Statements. The document will be available on MSHA's Web site for 60 days after the publication date of this notice. Comments submitted in writing or in electronic form will be made available for public inspection. Because comments will not be edited to remove any identifying or contact information, MSHA cautions the commenter against including any information in the submission that should not be publicly disclosed. Questions about the information collection requirements may be directed to the person listed in the FOR FURTHER INFORMATION CONTACT section of this notice.

III. Current Actions

The information obtained from mine operators is used by MSHA during inspections to determine compliance with safety and health standards. MSHA has updated the data in respect to the number of respondents and responses, as well as the total burden hours and burden costs supporting this information collection extension request.

MSHA does not intend to publish the results from this information collection and is not seeking approval to either display or not display the expiration date for the OMB approval of this information collection.

There are no certification exceptions identified with this information collection and the collection of this information does not employ statistical methods.

Summary

Type of Review: Extension.

Agency: Mine Safety and Health Administration.

Title: Daily Inspection of Surface Coal Mines; Certified Person; Reports of Inspection (Pertains to Surface Coal Mines).

OMB Number: 1219-0083.

Affected Public: Business or other for-profit.

Cite/Reference/Form/etc: 30 CFR 77.1713.

Total Number of Respondents: 1,464.

Frequency: 312.

Total Number of Responses: 913,536.

Total Burden Hours: 685,152 hours.

Total Other Annual Cost Burden: $0.

Comments submitted in response to this notice will be summarized and included in the request for Office of Management and Budget approval of the information collection request; they will also become a matter of public record.

Authority: 44 U.S.C. 3506(c)(2)(A).

Dated: October 5, 2012.
George F. Triebsch,
Certifying Officer.

[FR Doc. 2012-25075 Filed 10-11-12; 8:45 am]

BILLING CODE 4510-43-P